SECURITIES AND EXCHANGE COMMISSION

[File No. 500-1]

Order of Suspension of Trading; In the Matter of Pioneer Exploration, Inc., Premier Brands, Inc., and Private Media Group, Inc.

April 29, 2016.

It appears to the Securities and Exchange Commission that there is a lack of current and accurate information concerning the securities of Pioneer Exploration, Inc. (CIK No. 1364123), a revoked Nevada corporation with its principal place of business listed as Newport Beach, California, with stock quoted on OTC Link (previously, “Pink Sheets”) operated by OTC Markets Group Inc. (“OTC Link”) under the ticker symbol PIEX, because it has not filed any periodic reports since the period ended May 31, 2013. On August 19, 2015, a delinquency letter was sent by the Division of Corporation Finance to Pioneer Exploration requesting compliance with its periodic filing obligations, but it did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of Premier Brands, Inc. (CIK No. 1502777), a Wyoming corporation with its principal place of business listed as Bonita, California, with stock quoted on OTC Link under the ticker symbol BRND, because it has not filed any periodic reports since the period ended May 31, 2013. On August 19, 2015, a delinquency letter was sent by the Division of Corporation Finance to Premier Brands, Inc. requesting compliance with its periodic filing obligations, and Premier Brands, Inc. received the delinquency letter on August 22, 2015, but failed to cure its delinquencies.

It appears to the Securities and Exchange Commission that there is a lack of current and accurate information concerning the securities of Private Media Group, Inc. (CIK No. 1068084), a Nevada corporation with its principal place of business listed as Barcelona, Spain, with stock quoted on OTC Link under the ticker symbol PRVT, because it has not filed any periodic reports since the period ended June 30, 2013. On August 18, 2015, a delinquency letter was sent by the Division of Corporation Finance to Private Media Group, Inc. requesting compliance with its periodic filing obligations, but it did not receive the delinquency letter due to its failure to maintain a valid address on file with the Commission as required by Commission rules (Rule 301 of Regulation S-T, 17 CFR 232.301 and Section 5.4 of EDGAR Filer Manual).

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 29, 2016, through 11:59 p.m. EDT on May 12, 2016.

By the Commission.
Brent J. Fields,
Secretary.

[FR Doc. 2016-10407 Filed 4-29-16; 11:15 am]

BILLING CODE 8011-01-P